DEPARTMENT OF THE TREASURY

Internal Revenue Service

26 CFR Part 1

[REG-116914-03]

RIN 1545-BC06

Transfer of Compensatory Options; Correction

AGENCY: Internal Revenue Service (IRS), Treasury.

ACTION: Correction to notice of proposed rulemaking by cross-reference to temporary regulations.

SUMMARY: This document contains a correction to a notice of proposed rulemaking by cross-reference to temporary regulations that were published in the Federal Register on Wednesday, July 2, 2003 (68 FR 39498), relating to the sale or other disposition of compensatory nonstatutory stock options to related persons.

FOR FURTHER INFORMATION CONTACT: Stephen Tackney at (202) 622-6030 (not a toll-free number).

SUPPLEMENTARY INFORMATION:

Background

The notice of proposed rulemaking by cross-reference to temporary regulations that is the subject of this correction is under section 83 of the Internal Revenue Code.

Need for Correction

As published, the notice of proposed rulemaking by cross-reference to temporary regulations contains an error that may prove to be misleading and is in need of clarification.

Correction of Publication

Accordingly, the publication of the notice of proposed rulemaking by cross-reference to temporary regulations (REG-116914-03), that was the subject of FR Doc. 03-16787, is corrected as follows:

On page 39498, column 2, in the preamble under the paragraph heading “Special Analyses”, second line, the language “temporary regulations are not a” is corrected to read “proposed regulations are not a”.

Cynthia E. Grigsby,
Acting Chief, Publications and Regulations Branch, Legal Processing Division, Associate Chief Counsel (Procedure and Administration).

[FR Doc. 03-22552 Filed 9-3-03; 8:45 am]

BILLING CODE 4830-01-P